FEDERAL ELECTION COMMISSION

[Notice 2010-02]

Price Index Adjustments for Expenditure Limitations and Lobbyist Bundling Disclosure Threshold

AGENCY: Federal Election Commission.

ACTION: Notice of adjustments to expenditure limitations and lobbyist bundling disclosure threshold.

SUMMARY: As mandated by provisions of the Federal Election Campaign Act of 1971, as amended (“FECA” or “the Act”), the Federal Election Commission (“FEC” or “the Commission”) is adjusting certain expenditure limitations and the lobbyist bundling disclosure threshold set forth in the Act, to index the amounts for inflation. Additional details appear in the supplemental information that follows.

DATES: Effective Date: January 1, 2010.

FOR FURTHER INFORMATION CONTACT: Mr. Greg J. Scott or Mr. Kevin R. Salley, Information Division, 999 E Street, NW., Washington, DC 20463; (202) 694-1100 or (800) 424-9530.

SUPPLEMENTARY INFORMATION: Under the Federal Election Campaign Act of 1971, 2 U.S.C. 431 et seq., as amended by the Bipartisan Campaign Reform Act of 2002 ¹ and the Honest Leadership and Open Government Act of 2007,² coordinated party expenditure limits (2 U.S.C. 441a(d)(2) and (3)(A), (B)) and the disclosure threshold for contributions bundled by lobbyists (2 U.S.C. 434(i)(3)(A)) are adjusted periodically to reflect changes in the consumer price index. See 2 U.S.C. 434(i)(3) and 441a(c)(1), and 11 CFR 109.32 and 110.17(a), (f). The Commission is publishing this notice to announce the adjusted limits and disclosure threshold.

¹ Public Law 107-155, 116 Stat. 81 (Mar. 27, 2002).

² Public Law 110-81, 121 Stat. 735 (Sep. 14, 2007).

Coordinated Party Expenditure Limits for 2010

Under 2 U.S.C. 441a(c), the Commission must adjust the expenditure limitations established by 2 U.S.C. 441a(d) (the limits on expenditures by national party committees, state party committees, or their subordinate committees in connection with the general election campaign of candidates for Federal office) annually to account for inflation. This expenditure limitation is increased by 4.35110, which reflects the difference between the price index, as certified to the Commission by the Secretary of Labor, for the 12 months preceding the beginning of the calendar year and the price index for the base period (calendar year 1974).

1. Expenditure Limitation for House of Representatives in States With More Than One Congressional District

Both the national and state party committees have an expenditure limitation for each general election held to fill a seat in the House of Representatives in States with more than one congressional district. This limitation also applies to those States that elect individuals to the office of Delegate or Resident Commissioner.³ The formula used to calculate the expenditure limitation in such States multiplies the base figure of $10,000 by the difference in the price index (4.35110), rounding to the nearest $100. See 2 U.S.C. 441a(c)(1)(B) and 441a(d)(3)(B), and 11 CFR 109.32(b) and 110.17. Based upon this formula, the expenditure limitation for 2010 general elections for House candidates in these States is $43,500.

³ Currently, these States include the District of Columbia, the Commonwealth of Puerto Rico, and the territories of American Samoa, Guam, the United States Virgin Islands and the Northern Mariana Islands. See http://www.house.gov/house/MemberWWW_by_State.shtml and http://about.dc.gov/statehood.asp.

2. Expenditure Limitation for Senate and for House of Representatives in States With Only One Congressional District

Both the national and state party committees have an expenditure limitation for a general election held to fill a seat in the Senate or in the House of Representatives in States with only one congressional district. The formula used to calculate this expenditure limitation considers not only the price index but also the voting age population (“VAP”) of the state. The VAP of each state is published annually in the Federal Register by the Department of Commerce. 11 CFR 110.18. The general election expenditure limitation is the greater of: The base figure ($20,000) multiplied by the difference in the price index, 4.35110 (which totals $87,000); or $0.02 multiplied by the VAP of the state, multiplied by 4.35110. Amounts are rounded to the nearest $100. See 2 U.S.C. 441a(c)(1)(B) and 441a(d)(3)(A), and 11 CFR 109.32(b) and 110.17. The chart below provides the state-by-state breakdown of the 2010 general election expenditure limitations for Senate elections. The expenditure limit for 2010 House elections in states with only one congressional district ⁴ is $87,000.

⁴ Currently, these States are: Alaska, Delaware, Montana, North Dakota, South Dakota, Vermont and Wyoming. See http://www.house.gov/house/MemberWWW_by_State.shtml.

Senate General Election Expenditure Limitations—2010 Elections
State | VAP (in thousands) | VAP × .02 × the price index (4.35110) | Senate expenditure limit (the greater of the amount in column 3 or $87,000)
Alabama | 3,580 | $311,500 | $311,500
Alaska | 515 | 44,800 | 87,000
Arizona | 4,864 | 423,300 | 423,300
Arkansas | 2,180 | 189,700 | 189,700
California | 27,526 | 2,395,400 | 2,395,400
Colorado | 3,797 | 330,400 | 330,400
Connecticut | 2,710 | 235,800 | 235,800
Delaware | 678 | 59,000 | 87,000
Florida | 14,480 | 1,260,100 | 1,260,100
Georgia | 7,245 | 630,500 | 630,500
Hawaii | 1,005 | 87,500 | 87,500
Idaho | 1,127 | 98,100 | 98,100
Illinois | 9,733 | 847,000 | 847,000
Indiana | 4,834 | 420,700 | 420,700
Iowa | 2,295 | 199,700 | 199,700
Kansas | 2,114 | 184,000 | 184,000
Kentucky | 3,300 | 287,200 | 287,200
Louisiana | 3,369 | 293,200 | 293,200
Maine | 1,047 | 91,100 | 91,100
Maryland | 4,348 | 378,400 | 378,400
Massachusetts | 5,161 | 449,100 | 449,100
Michigan | 7,620 | 663,100 | 663,100
Minnesota | 4,005 | 348,500 | 348,500
Mississippi | 2,184 | 190,100 | 190,100
Missouri | 4,556 | 396,500 | 396,500
Montana | 755 | 65,700 | 87,000
Nebraska | 1,345 | 117,000 | 117,000
Nevada | 1,962 | 170,700 | 170,700
New Hampshire | 1,036 | 90,200 | 90,200
New Jersey | 6,662 | 579,700 | 579,700
New Mexico | 1,499 | 130,400 | 130,400
New York | 15,117 | 1,315,500 | 1,315,500
North Carolina | 7,103 | 618,100 | 618,100
North Dakota | 503 | 43,800 | 87,000
Ohio | 8,828 | 768,200 | 768,200
Oklahoma | 2,769 | 241,000 | 241,000
Oregon | 2,953 | 257,000 | 257,000
Pennsylvania | 9,830 | 855,400 | 855,400
Rhode Island | 826 | 71,900 | 87,000
South Carolina | 3,481 | 302,900 | 302,900
South Dakota | 613 | 53,300 | 87,000
Tennessee | 4,803 | 418,000 | 418,000
Texas | 17,886 | 1,556,500 | 1,556,500
Utah | 1,916 | 166,700 | 166,700
Vermont | 495 | 43,100 | 87,000
Virginia | 6,035 | 525,200 | 525,200
Washington | 5,095 | 443,400 | 443,400
West Virginia | 1,433 | 124,700 | 124,700
Wisconsin | 4,345 | 378,100 | 378,100
Wyoming | 412 | 35,900 | 87,000

Contribution Limitations for Individuals, Non-Multicandidate Committees and for Certain Political Party Committees Giving to U.S. Senate Candidates for the 2009-2010 Election Cycle

For the convenience of the readers, the Commission is also republishing the contribution limitations for individuals, non-multicandidate committees and for certain political party committees giving to U.S. Senate candidates for the 2009-2010 election cycle:

Statutory provision | Statutory amount | 2009-2010 Limitation
2 U.S.C. 441a(a)(1)(A) | $2,000 | $2,400
2 U.S.C. 441a(a)(1)(B) | $25,000 | $30,400
2 U.S.C. 441a(a)(3)(A) | $37,500 | $45,600
2 U.S.C. 441a(a)(3)(B) | $57,500 (of which no more than $37,500 may be attributable to contributions to political committees that are not political committees of national political parties) | $69,900 (of which no more than $45,600 may be attributable to contributions to political committees that are not political committees of national political parties)
2 U.S.C. 441a(h) | $35,000 | $42,600

Lobbyist Bundling Disclosure Threshold for 2010

The Act, as amended by HLOGA, requires certain political committees to disclose contributions bundled by lobbyists/registrants and lobbyist/registrant political action committees once the contributions exceed a specified threshold amount. The Commission must adjust this threshold amount annually to account for inflation. The disclosure threshold is increased by multiplying the $15,000 statutory disclosure threshold by 1.06418, the difference between the price index, as certified to the Commission by the Secretary of Labor, for the 12 months preceding the beginning of the calendar year and the price index for the base period (calendar year 2006). The resulting amount is rounded to the nearest multiple of $100. See 2 U.S.C. 434(i)(3)(A) and (B), 441a(c)(1)(B) and 11 CFR 104.22(g). Based upon this formula ($15,000 × 1.06418), the lobbyist bundling disclosure threshold for calendar year 2010 is $16,000, unchanged from 2009.

On behalf of the Commission.
Dated: February 19, 2010.
Matthew S. Petersen,
Chairman, Federal Election Commission.

[FR Doc. 2010-3688 Filed 2-23-10; 8:45 am]

BILLING CODE 6715-01-P